DEPARTMENT OF COMMERCE

Foreign-Trade Zones Board

[Order No. 1282]

Approval for Expansion of Manufacturing Authority Within Subzone 193A; Cardinal Health 409, Inc., Plant (Pharmaceutical Gelatin Capsules), Pinellas County, FL

Pursuant to its authority under the Foreign-Trade Zones Act of June 18, 1934, as amended (19 U.S.C. 81a-81u), the Foreign-Trade Zones Board (the Board) adopts the following Order:

Whereas, the Pinellas County Board of County Commissioners, grantee of FTZ 193A, has requested authority to expand the scope of manufacturing activity under zone procedures within Subzone 193A at the Cardinal Health 409, Inc. (formerly RP Scherer Corporation) plant in Pinellas County, Florida (FTZ Docket 17-2003, filed 3/27/2003);

Whereas, notice inviting public comment has been given in the Federal Register (68 FR 18196, April 15, 2003);

Whereas, pursuant to section 400.32(b)(1) of the FTZ Board regulations (15 CFR 400), the Secretary of Commerce's delegate on the FTZ Board has the authority to act for the Board in making decisions regarding manufacturing activity within existing zones when the proposed activity is the same, in terms of products involved, to activity recently approved by the Board and similar in circumstances (15 CFR 400.32(b)(1)(i)); and,

Whereas, the Board adopts the findings and recommendations of the examiner's report, and finds that the requirements of the FTZ Act and Board's regulations are satisfied, and that the proposal is in the public interest;

Now, Therefore, the Board hereby orders:

The application to expand the scope of authority under zone procedures within Subzone 193A on behalf of Cardinal Health 409, Inc., is approved, subject to the FTZ Act and the Board's regulations, including section 400.28.

Signed at Washington, DC, this 25th day of August, 2003.
Jeffrey May,
Acting Assistant Secretary for Import Administration, Alternate Chairman, Foreign-Trade Zones Board.

[FR Doc. 03-23069 Filed 9-9-03; 8:45 am]

BILLING CODE 3510-DS-P